DEPARTMENT OF ENERGY

Federal Energy Regulatory Commission

Combined Notice of Filings #1

September 11, 2007.

Take notice that the Commission has received the following Natural Gas Pipeline Rate and Refund Report filings:

Docket Numbers: RP05-422-022.

Applicants: El Paso Natural Gas Company.

Description: El Paso Natural Gas Company submits Thirty-Fourth Revised Sheet 20 et al. to FERC Gas Tariff, Second Revised Volume 1-A.

Filed Date: 09/10/2007.

Accession Number: 20070911-0089.

Comment Date: 5 p.m. Eastern Time on Monday, September 24, 2007.

Docket Numbers: RP07-38-003.

Applicants: Eastern Shore Natural Gas Company.

Description: Eastern Shore Natural Gas Company submits Revised Sheets 4, 5, and 6 to FERC Gas Tariff, Second Revised Volume 1, effective 9/1/07.

Filed Date: 09/10/2007.

Accession Number: 20070910-0191.

Comment Date: 5 p.m. Eastern Time on Monday, September 24, 2007.

Docket Numbers: RP07-602-001.

Applicants: Sabine Pipe Line LLC.

Description: Sabine Pipe Line LLC submits Substitute Eighth Revised Sheet 20 to its FERC Gas Tariff, Original Volume 1, to be effective 10/11/07.

Filed Date: 09/10/2007.

Accession Number: 20070911-0087.

Comment Date: 5 p.m. Eastern Time on Monday, September 24, 2007.

Docket Numbers: RP07-688-000.

Applicants: Chandeleur Pipe Line Company.

Description: Chandeleur Pipe Line Co submits Twenty First Revised Sheet 5 to its FERC Gas Tariff, Second Revised Volume 1, to be effective 10/11/07.

Filed Date: 09/10/2007.

Accession Number: 20070911-0086.

Comment Date: 5 p.m. Eastern Time on Monday, September 24, 2007.

Docket Numbers: RP07-689-000.

Applicants: Northwest Pipeline Corporation.

Description: Northwest Pipeline Corp requests that FERC waive an obligation imposed upon Northwest by a 1998 Settlement Agreement to pass through to its customers certain Gas Research Institute refunds.

Filed Date: 09/10/2007.

Accession Number: 20070911-0109.

Comment Date: 5 p.m. Eastern Time on Monday, September 24, 2007.

Docket Numbers: RP07-88-002.

Applicants: El Paso Natural Gas Company.

Description: El Paso Natural Gas Company submits this filing to provide the requested additional information on the accounting practices used to report the disposition of costs & revenues related to operational gas purchases.

Filed Date: 09/10/2007.

Accession Number: 20070911-0088.

Comment Date: 5 p.m. Eastern Time on Monday, September 24, 2007.

Docket Numbers: RP97-391-005.

Applicants: Gas Technology Institute.

Description: Northwest Pipeline Corp requests that FERC waive an obligation imposed upon Northwest by a 1998 Settlement Agreement to pass through to its customers certain Gas Research Institute refunds.

Filed Date: 09/10/2007.

Accession Number: 20070911-0109.

Comment Date: 5 p.m. Eastern Time on Monday, September 24, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Acting Deputy Secretary.

[FR Doc. E7-18281 Filed 9-17-07; 8:45 am]

BILLING CODE 6717-01-P